ENVIRONMENTAL PROTECTION AGENCY

[EPA-HQ-OEI-2013-0565; FRL-9951-37-OEI]

Proposed Information Collection Request; Comment Request; Confidentiality Rules

AGENCY: Environmental Protection Agency (EPA).

ACTION: Notice.

SUMMARY: The Environmental Protection Agency is planning to submit an information collection request (ICR), “Confidentiality Rules (Renewal)” (EPA ICR No. 1665.13, OMB Control No. 2020-0003) to the Office of Management and Budget (OMB) for review and approval in accordance with the Paperwork Reduction Act (44 U.S.C. 3501 et seq.). Before doing so, EPA is soliciting public comments on specific aspects of the proposed information collection as described below. This is a proposed extension of the ICR, which is currently approved through February 28, 2017. An Agency may not conduct or sponsor and a person is not required to respond to a collection of information unless it displays a currently valid OMB control number.

DATES: Comments must be submitted on or before November 14, 2016.

ADDRESSES: Submit your comments, referencing Docket ID No. EPA-HQ-OEI-2013-0565, online using www.regulations.gov (our preferred method), by email to docket.oei@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Larry Gottesman, National Freedom of Information Act Officer, FOIA, Libraries and Accessibility Division, Office of Environmental Information, 2822T, Environmental Protection Agency, 1200 Pennsylvania Ave. NW., Washington, DC 20460; telephone number: 202-566-2162; Gottesman.Larry@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: In the course of administering environmental protection statutes, EPA collects data from “businesses” in many sectors of the U.S. economy. In many cases, “businesses” mark the data it submits to EPA as confidential business information (CBI). In addition, businesses submit information to EPA without the Agency requesting the information. EPA established the procedures described in 40 CFR part 2, subparts A and B, to protect the confidentiality of information as well as the rights of the public to obtain access to information under the Freedom of Information Act (FOIA). In accordance with these regulations, when EPA finds it necessary to make a final confidentiality determination (e.g., in response to a FOIA request or in the course of rulemaking or litigation, a resubstantiation of a prior claim, or an advance confidentiality determination), it shall notify the affected business and provide an opportunity to submit a substantiation of confidentiality claims. This ICR relates to information EPA needs to collect to assist in determining whether previously submitted information is entitled to confidential treatment.

Form Numbers: None.

Respondents/affected entities: Entities potentially affected by this action are businesses and other for-profit companies.

Respondent's obligation to respond: Required to obtain or retain a benefit, 5 U.S.C. Section 522 Freedom of Information Act.

Estimated number of respondents: 228 (total).

Frequency of response: 1 response per respondent annually.

Total estimated burden: 1,533 hours (per year). Burden is defined at 5 CFR 1320.03(b).

Total estimated cost: $139,514 (per year), includes $0 annualized capital or operation & maintenance costs.

Changes in Estimates: There is no change in the total estimated respondent burden compared with the ICR currently approved by OMB.

As part of the ICR renewal process, EPA is obtaining usage for the past 12 months of each of the letters covered by this ICR to obtain up-to-date estimates.

Larry F. Gottesman,
Agency FOIA Officer, Office of Environmental Information, Office of Enterprise Information Programs.

[FR Doc. 2016-21988 Filed 9-12-16; 8:45 am]

BILLING CODE 6560-50-P